DEPARTMENT OF THE INTERIOR

Fish and Wildlife Service

[FWS-R7-NWRS-2019-N167; FF07RYKD00 FXRS12610700000 189; OMB Control Number 1018-New]

Agency Information Collection Activities; Submission to the Office of Management and Budget for Review and Approval; In-Season Subsistence Salmon Fishery Catch and Effort Survey

AGENCY: Fish and Wildlife Service, Interior.

ACTION: Notice of information collection; request for comment.

SUMMARY: In accordance with the Paperwork Reduction Act of 1995, we, the U.S. Fish and Wildlife Service, are proposing a new information collection.

DATES: Interested persons are invited to submit comments on or before September 5, 2019.

ADDRESSES: Send written comments on this information collection request to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number “1018-YDNWR Salmon Survey” in the subject line of your comments.

FOR FURTHER INFORMATION CONTACT: Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On October 12, 2018, we published a Federal Register notice with a 60-day public comment period soliciting comments on this proposed new collection of information (83 FR 51695). In that notice, we solicited comments for 60 days, ending on December 11, 2018. We received one comment in response to that notice but it did not address the information collection requirements. We made no changes to the collection in response to that comment.

We are again soliciting comments on the information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: The administration and uses of national wildlife refuges and wetland management districts are governed by the National Wildlife Refuge System Administration Act of 1966 (16 U.S.C. 668dd-668ee) (Administration Act), as amended by the National Wildlife Refuge System Improvement Act of 1997; the Refuge Recreation Act of 1962 (16 U.S.C. 460k-460k-4) (Recreation Act); and, the Alaska National Interest Lands Conservation Act (16 U.S.C. 3101 et seq.) (ANILCA). ANILCA provides specific authorization and guidance for the administration and management of national wildlife refuges within the State of Alaska.

The Service is requesting authorization to contribute to the design and implementation of subsistence fisher surveys for the purposes of informing in-season fisheries management decision-making in the Kuskokwim River subsistence salmon fishery at Yukon Delta National Wildlife Refuge (YDNWR). A program is already in place and is operated by tribal partners [the Orutsararmiut Traditional Native Council and the Kuskokwim River Inter-Tribal Fisheries Commission (KRITFC)], but the Service would like to be more involved in planning and administering the surveys.

The information collected by the survey includes the times individuals left and returned from boat launches, several characteristics of their fishing gear, broad classification of where the fishing activity occurred, for how long they actively fished, and how many of each of three salmon species they harvested. When coupled with aerial boat counts performed by the Service, these data can be used to obtain quantitative estimates of total fishing activity and salmon harvest occurring from short-duration subsistence harvest opportunities. The estimates are then used to inform the management strategy used jointly by the Service and the KRITFC.

Title of Collection: In-Season Subsistence Salmon Fishery Catch and Effort Survey.

OMB Control Number: 1018-New.

Form Number: None.

Type of Review: New.

Respondents/Affected Public: Subsistence fishers within the Yukon Delta National Wildlife Refuge.

Total Estimated Number of Annual Respondents: 1,014.

Total Estimated Number of Annual Responses: 1,014.

Estimated Completion Time per Response: 5 minutes.

Total Estimated Number of Annual Burden Hours: 85 hours.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Dated: July 31, 2019.
Madonna Baucum,
Information Collection Clearance Officer, U.S. Fish and Wildlife Service.

[FR Doc. 2019-16723 Filed 8-5-19; 8:45 am]

BILLING CODE 4333-15-P